NATIONAL AERONAUTICS AND SPACE ADMINISTRATION

[Notice (18-101)]

Notice of Intent To Grant Partially Exclusive Patent License

AGENCY: National Aeronautics and Space Administration.

ACTION: Notice of intent to grant partially exclusive patent license.

SUMMARY: NASA hereby gives notice of its intent to grant a partially exclusive patent license in the United States to practice the inventions described and claimed in U.S. Patent Application Serial No. 15/635,011 entitled, “Ammonia Capture and Recovery System and Method for Removing Ammonia from a Wastewater Stream,” KSC-13681-CIP, to Aquatecture, LLC, having its principal place of business in Los Angeles, CA. Aquatecture, LLC has requested a partially exclusivity patent license.

DATES: The prospective partially exclusive patent license may be granted unless, NASA receives written objections, including evidence and argument, no later than January 14, 2019 that establish that the grant of the license would not be consistent with the requirements regarding the licensing of federally owned inventions as set forth in the Bayh-Dole Act and implementing regulations. Competing applications completed and received by NASA no later than January 14, 2019 will also be treated as objections to the grant of the contemplated partially exclusive license. Objections submitted in response to this notice will not be made available to the public for inspection and, to the extent permitted by law, will not be released under the Freedom of Information Act.

ADDRESSES: Objections relating to the prospective license may be submitted to Patent Counsel, Office of the Chief Counsel, Mail Code CC-A, NASA John F. Kennedy Space Center, Kennedy Space Center, FL 32899. Telephone: 321-867-2076; Facsimile: 321-867-1817; email: KSC-Patent-Counsel@mail.nasa.gov.

FOR FURTHER INFORMATION CONTACT: Mark Homer, Patent Counsel, Office of the Chief Counsel, Mail Code CC, NASA John F. Kennedy Space Center, Kennedy Space Center, FL 32899. Telephone: 321-867-2076; Facsimile: 321-867-1817.

SUPPLEMENTARY INFORMATION: This notice of intent to grant a partially exclusive patent license is issued in accordance with 35 U.S.C. 209(e) and 37 CFR 404.7(a)(1)(i). The patent rights in these inventions have been assigned to the United States of America as represented by the Administrator of the National Aeronautics and Space Administration. The prospective exclusive license will comply with the requirements of 35 U.S.C. 209 and 37 CFR 404.7.

Information about other NASA inventions available for licensing can be found online at http://technology.nasa.gov.

Mark P. Dvorscak,
Agency Counsel for Intellectual Property.

[FR Doc. 2018-28145 Filed 12-27-18; 8:45 am]

BILLING CODE 7510-13-P